DEPARTMENT OF JUSTICE

Environment and Natural Resources Division; Notice of Lodging Proposed Consent Decree

In accordance with Department Policy, 28 CFR 50.7, notice is hereby given that a proposed consent decree in United States v. Portrait Homes Construction Co., Civil Action No. 4:00-3581-12, (D.S.C.), was lodged with the United States District Court for the District of South Carolina on November 15, 2000. This proposed Consent Decree concerns a complaint filed by the United States against Portrait Homes Construction Co., pursuant to sections 301(a) and 404 of the Clean Water Act, 33 U.S.C. 1311(a) and 1344 and imposes civil penalties against the Defendant for the unauthorized discharge of dredged or fill material into waters of the United States in connection with the construction of a subdivision development on a portion of Kaminski Tract, located off Highway 707, approximately 1.5 miles from the intersection of Highway 17 and 707, near Murrells Inlet, in Horry County, South Carolina.

The proposed Consent Decree requires the payment of civil penalties in the amount of $10,000 and prohibits the discharge of pollutants into the waters of the United States.

The Department of Justice will accept written comments relating to this proposed Consent Decree for thirty (30) days from the date of publication of this notice. Please address comments to Joseph P. Griffith, Jr., United States Attorney's Office, 170 Meeting Street, Suite 300, P.O. Box 978, Charleston, South Carolina 29402 and refer to United States v. Portrait Homes Construction Co.

The proposed Consent Decree may be examined at the Clerk's Office, United States District Court for the District of South Carolina, Hollings Judicial Center, Meeting Street at Broad, Charleston, S.C. 29401.

Joseph P. Griffith, Jr.,
Assistant United States Attorney, United States Attorneys Office, Charleston, South Carolina.

[FR Doc. 00-30603 Filed 11-30-00; 8:45 am]

BILLING CODE 4410-15-M